BARRY GOLDWATER SCHOLARSHIP AND EXCELLENCE IN EDUCATION FOUNDATION

Sunshine Act Meeting

Time and Date: 1 p.m., Thursday, March 18, 2004.

Place: The Cosmos Club, 2121 Massachusetts Avenue, Washington, DC 20008.

Status: The meeting will be open to the public.

Matters to be Considered:

1. Review and approval of the minutes of the March 13th, 2003 Board of Trustees meeting which was accomplished by correspondence.

2. Report on financial status of the Foundation fund.

A. Review of investment policy and current portfolio.

3. Report on results of Scholarship Review Panel.

A. Discussion and consideration of scholarship candidates.

B. Selection of Goldwater Scholars.

4. Other Business brought before the Board of Trustees.

FOR FURTHER INFORMATION CONTACT: Gerald J. Smith, President, Telephone: (703) 756-6012.

Gerald J. Smith,
President.

[FR Doc. 04-6077 Filed 3-15-04; 8:45 am]

BILLING CODE 4738-91-M